DEPARTMENT OF AGRICULTURE

Rural Housing Service

Section 538 Guaranteed Rural Rental Housing Program 2016 Industry Forums—Open Teleconference and/or Web Conference Meetings

AGENCY: Rural Housing Service, USDA.

ACTION: Notice.

SUMMARY: This Notice announces a series of teleconference and/or web conference meetings regarding the U.S. Department of Agriculture (USDA) Section 538 Guaranteed Rural Rental Housing (GRRH) program, which are scheduled to occur during 2016 and 2017. This Notice also outlines suggested discussion topics for the meetings and is intended to notify the general public of their opportunity to participate in the teleconference and/or web conference meetings.

DATES: See SUPPLEMENTARY INFORMATION section for dates.

FOR FURTHER INFORMATION CONTACT: Monica Cole, Financial and Loan Analyst, at (202) 720-1251, fax: (844) 875-8075, or email: monica.cole@wdc.usda.gov.

SUPPLEMENTARY INFORMATION: The objectives of this series of teleconferences are as follows:

• Enhance the effectiveness of the Section 538 the GRRH program.

• Update industry participants and Rural Housing Service (RHS) staff on developments involving the Section 538 GRRH program.

• Enhance RHS' awareness of the market and other forces that impact the Section 538 GRRH program.

Topics to be discussed could include, but will not be limited to, the following:

• Updates on USDA's Section 538 GRRH program activities.

• Perspectives on the current state of debt financing and its impact on the Section 538 GRRH program.

• Enhancing the use of Section 538 GRRH program financing with the transfer and/or preservation of Section 515 developments.

• The impact of the Low Income Housing Tax Credits program changes on Section 538 GRRH program financing.

The dates and times for the teleconference and/or web conference meetings will be announced via email to parties registered as described below.

Registration: Any member of the public wishing to register for the calls and obtain the call-in number, access code, web link and other information for any of the public teleconference and/or web conference meetings may contact Monica Cole, Financial and Loan Analyst, at (202) 720-1251, fax: (844) 875-8075, or email: monica.cole@wdc.usda.gov. Those who request registration less than 15 calendar days prior to the date of a teleconference and/or web conference meetings may not receive notice of that teleconference and/or web conference meeting, but will receive notice of future teleconference and/or web conference meetings.

The Agency expects to accommodate each participant's preferred form of participation by telephone or via web link. However, if it appears that existing capabilities may prevent the Agency from accommodating all requests for one form of participation, each participant will be notified and encouraged to consider an alternative form of participation. Individuals who plan to participate and need reasonable accommodations or language translation assistance should inform Monica Cole within 10 business days in advance of the meeting date.

Non-Discrimination Requirements

The U.S. Department of Agriculture prohibits discrimination in all of its programs and activities on the basis of race, color, national origin, age, disability, and where applicable, sex, marital status, familial status, parental status, religion, sexual orientation, political beliefs, genetic information, reprisal, or because all or part of an individual's income is derived from any public assistance program. (Not all prohibited bases apply to all programs.) Persons with disabilities who require alternative means for communication of program information (Braille, large print, audiotape, etc.) should contact USDA's TARGET Center at (202) 720-2600 (voice and TDD).

To file a complaint of discrimination, write to USDA, Assistant Secretary for Civil Rights, Office of the Assistant Secretary for Civil Rights, 1400 Independence Avenue SW., STOP 9410, Washington, DC 20250-9410, or call toll free at (866) 632-9992 (English) or (800) 877-8339 (TDD) or (866) 377-8642 (English Federal—Relay) or (800) 845-6136 (Spanish Federal—Relay). “USDA is an equal opportunity provider, employer, and lender.”

Dated: April 19, 2016.
Tony Hernandez,
Administrator, Rural Housing Service.

[FR Doc. 2016-09642 Filed 4-25-16; 8:45 am]

BILLING CODE 3410-XV-P